DEPARTMENT OF AGRICULTURE

National Agricultural Statistics Service

Notice of Intent To Reinstate and Change an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intent of the National Agricultural Statistics Service (NASS) to reinstate with change an information collection, the Agricultural Practices Survey.

DATES: Comments on this notice must be received by August 25, 2000, to be assured of consideration.

ADDITIONAL INFORMATION OR COMMENTS: Contact Rich Allen, Associate Administrator, National Agricultural Statistics Service, U.S. Department of Agriculture, 1400 Independence Avenue SW, Room 4117 South Building, Washington, D.C. 20250-2000, (202) 720-4333.

SUPPLEMENTARY INFORMATION: Title: The Agricultural Practices Survey.

OMB Control Number: 0535-0239.

Type of Request: Intent to Reinstate and Change an Information Collection.

Abstract: The Agricultural Practices Survey will be conducted in late 2000 and early 2001 in 15 states: Alabama, Arizona, California, Florida, Georgia, Michigan, New Jersey, New York, North Carolina, Oregon, South Carolina, Texas, Washington, and Wisconsin. This survey complies with President Clinton's October 1997 directive, “Initiative to Ensure the Safety of Imported and Domestic Fruits and Vegetables.” The purpose of the survey is to analyze data on agricultural practices related to microbial food safety. Data will be collected on sources of vegetable microbial contamination such as water; manure, worker, field and facility sanitation, and crop identification systems.

NASS conducted a similar survey in the spring of 2000 to begin to establish a baseline of current agricultural practices in the fruit and vegetable industry. The 2001 effort will target more specific production practices involving fresh market vegetable production. NASS will summarize the 15-state survey data and publish estimates of frequency of operations carrying out basic agricultural practices. Summarized aggregated data will be made available to the Food and Drug Administration (FDA) and the United States Department of Agriculture (USDA). FDA will use the summary data to analyze current agricultural practices and to enhance the baseline established to evaluate changes in agricultural practices. USDA will use the data to develop educational outreach materials for fresh market vegetable growers and packers.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 60 minutes per response.

Respondents: Fresh market vegetable growers and packinghouses.

Estimated Number of Respondents: 8,000.

Estimated Total Annual Burden on Respondents: 6,600 hours.

Copies of this information collection and related instructions can be obtained without charge from Ginny McBride, the Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, D.C. 20250-2000.

All responses to this notice will become a matter of public record and be summarized in the request for OMB approval.

Signed at Washington, D.C., May 16, 2000.
Rich Allen,
Associate Administrator.

[FR Doc. 00-15564 Filed 6-20-00; 8:45 am]

BILLING CODE 3410-20-P